DEPARTMENT OF VETERANS AFFAIRS

Joint Biomedical Laboratory Research and Development and Clinical Science Research and Development Services Scientific Merit Review Board Notice of Meetings—December 2015 and January 2016

The Department of Veterans Affairs (VA) gives notice under the Federal Advisory Committee Act, 5 U.S.C. App. 2, that the subcommittees of the Joint Biomedical Laboratory Research and Development and Clinical Science Research and Development Services Scientific Merit Review Board (JBL/CS SMRB) will meet from 8:00 a.m. to 5:00 p.m. on the dates indicated below (unless otherwise listed):

Subcommittee | Date | Location
Epidemiology | December 2, 2015 | * VA Central Office.
Immunology-A | December 2, 2015 | Hilton Garden Inn—DC/US Capitol.
Neurobiology-C | December 2, 2015 | American College of Surgeons.
Oncology-A | December 2, 2015 | * VA Central Office.
Mental Health and Behavioral Sciences-A | December 3, 2015 | Corporation for Enterprise Development.
Cardiovascular Studies-A | December 3, 2015 | Hilton Garden Inn—DC/US Capitol.
Endocrinology-B | December 3, 2015 | VA Central Office.
Pulmonary Medicine | December 3, 2015 | National Postal Museum, Blount Center.
Oncology-B | December 3, 2015 | * VA Central Office.
Clinical Trials-A | December 4, 2015 | Corporation for Enterprise. Development.
Neurobiology-A | December 4, 2015 | VA Central Office.
Neurobiology-E | December 4, 2015 | US Access Board.
Oncology-D | December 4, 2015 | * VA Central Office.
Oncology-C | December 4, 2015 | * VA Central Office.
Special Emphasis on Genomics | December 4, 2015 | * VA Central Office.
Aging and Clinical Geriatrics | December 7, 2015 | * VA Central Office.
Endocrinology-A | December 7, 2015 | US Access Board.
Neurobiology-R | December 7, 2015 | * VA Central Office.
Oncology-E | December 7, 2015 | * VA Central Office.
Clinical Trials-B | December 8, 2015 | * VA Central Office.
Neurobiology-B | December 8, 2015 | US Access Board.
Neurobiology-F | December 9, 2015 | * VA Central Office.
Cardiovascular Studies-B | December 10, 2015 | Corporation for Enterprise Development.
Gastroenterology | December 10, 2015 | American College of Surgeons .
Special Emphasis on Million Veteran Program Projects | December 10, 2015 | VA Central Office.
Neurobiology-D | December 11, 2015 | Corporation for Enterprise Development.
Gulf War Research | December 11, 2015 | * VA Central Office.
Eligibility | January 15, 2015 | Corporation for Enterprise Development.
JBL/CS SMRB | January 28, 2016 | * VA Central Office (3:00 p.m. ET).
The addresses of the meeting sites are:
American College of Surgeons, 20 F Street NW., Washington, DC;
Corporation for Enterprise Development, 1200 G Street NW., Suite 400, Washington, DC;
Hilton Garden Inn Washington, DC/US Capitol, 1225 First Street NE., Washington, DC;
US Access Board, 1331 F Street NW., Suite 1000, Washington, DC;
National Postal Museum, Blount Center, 2 Massachusetts Avenue NE., Washington, DC;
VA Central Office, 1100 First Street NE., Suite 600, Washington, DC.
* Teleconference.

The purpose of the subcommittees is to provide advice on the scientific quality, budget, safety and mission relevance of investigator-initiated research proposals submitted for VA merit review evaluation. Proposals submitted for review include diverse medical specialties within the general areas of biomedical, behavioral and clinical science research.

The subcommittee meetings will be closed to the public for the review, discussion, and evaluation of initial and renewal research proposals. However, the JBL/CS SMRB teleconference meeting will be open to the public. Members of the public who wish to attend the open JBL/CS SMRB teleconference may dial 1-800-767-1750, participant code 95562. Members of the public who wish to make a statement at the JBL/CS SMRB meeting must notify Dr. Alex Chiu via email at alex.chiu@va.gov by January 21, 2016.

The closed subcommittee meetings involve discussion, examination, and reference to staff and consultant critiques of research proposals. Discussions will deal with scientific merit of each proposal and qualifications of personnel conducting the studies, the disclosure of which would constitute a clearly unwarranted invasion of personal privacy. Additionally, premature disclosure of research information could significantly frustrate implementation of proposed agency action regarding the research proposals. As provided by subsection 10(d) of Public Law 92-463, as amended by Public Law 94-409, closing the subcommittee meetings is in accordance with Title 5 U.S.C. 552b(c) (6) and (9)(B).

Those who would like to obtain a copy of the minutes from the closed subcommittee meetings and rosters of the subcommittee members should contact Alex Chiu, Ph.D., Manager, Merit Review Program (10P9B), Department of Veterans Affairs, 810 Vermont Avenue NW., Washington, DC 20420, at (202) 443-5672 or email at alex.chiu@va.gov.

Dated: October 22, 2015.
Rebecca Schiller,
Advisory Committee Management Officer.

[FR Doc. 2015-27337 Filed 10-27-15; 08:45 am]

BILLING CODE 8320-01-P